DEPARTMENT OF HEALTH AND HUMAN SERVICES

Availability of the Draft National Youth Sports Strategy and Solicitation of Written Comments

AGENCY: Office of Disease Prevention and Health Promotion, Office of the Assistant Secretary for Health, Office of the Secretary, Department of Health and Human Services.

ACTION: Notice.

SUMMARY: The Department of Health and Human Services (HHS) announces the availability of the draft National Youth Sports Strategy (NYSS); and solicits written public comment on the draft NYSS.

DATES: Written comments on the NYSS will be accepted through 11:59 p.m. E.T. on July 22, 2019.

ADDRESSES: The draft NYSS is available on the internet at www.health.gov/paguidelines/youth-sports-strategy/.

FOR FURTHER INFORMATION CONTACT: Katrina L. Piercy, Ph.D., R.D., Office of Disease Prevention and Health Promotion (ODPHP), Office of the Assistant Secretary for Health (OASH), HHS; 1101 Wootton Parkway, Suite 420, Rockville, MD 20852; Telephone: (240) 453-8280. Email: odphpinfo@hhs.gov.

SUPPLEMENTARY INFORMATION: Executive Order 13824 directs the development of a National Youth Sports Strategy and outlines the key pillars that the strategy will address. ODPHP led the development of this strategy in collaboration with the President's Council on Sports, Fitness & Nutrition, the Centers for Disease Control and Prevention, and the National Institutes of Health. The draft NYSS covers the following topics: Current federal efforts related to physical activity, healthy eating, and youth sports; measurement and tracking of youth sports participation and access; benefits and barriers related to youth sports; opportunities to increase youth sports participation; youth sports around the world; and next steps for HHS action to increase youth sports participation. Members of the public are invited to review the draft NYSS and provide written comments.

Written Public Comments: Written comments on the draft NYSS are encouraged from the public and will be accepted through July 22, 2019. Written public comments can be submitted via the comment form at www.health.gov/paguidelines/youth-sports-strategy/. HHS requests that commenters provide a brief summary of the points or issues in the text boxes provided in the form. If commenters are providing literature or other resources, HHS suggests including complete citations or abstracts and electronic links to full articles or reports, as the comment form cannot accommodate attachments. The Department does not make decisions on specific policy recommendations based on the number of comments for or against a topic, but on the scientific justification for the recommendation. All comments must be received by 11:59 p.m. E.T. on July 22, 2019, after which the time period for submitting written comments to the federal government expires. After submission, comments will be reviewed and processed. A final version of the NYSS will be released later this year.

Dated: June 17, 2019.
Donald Wright,
Deputy Assistant Secretary for Health.

[FR Doc. 2019-14296 Filed 7-3-19; 8:45 am]

BILLING CODE 4150-32-P